FEDERAL COMMUNICATIONS COMMISSION

[Report No. 2620]

Petitions for Reconsideration and Clarification of Action in Rulemaking Procedures

August 7, 2003.

Petitions for Reconsideration and Clarification have been filed in the Commission's Rulemaking proceedings listed in this Public Notice and published pursuant to 47 CFR 1.429(e). The full text of this document is available for viewing and copying in Room CY-A257, 445, 12th Street, SW., Washington, DC or may be purchased from the Commission's copy contractor, Qualex International (202) 863-2893. Oppositions to these petitions must be filed by September 2, 2003. See section 1.4(b)(1) of the Commission's rules (47 CFR 1.4(b)(1)). Replies to an opposition must be filed within 10 days after the time for filing oppositions have expired.

Subject: In the Matter of Schools and Libraries Universal Service Support Mechanism (CC Docket No. 02-6).

Number of Petitions Filed: 2.

Subject: In the Matter of the 4.9 GHz Band Transferred from Federal Government Use (WT Docket No. 00-32).

Number of Petitions Filed: 1.

Marlene H. Dortch,
Secretary.

[FR Doc. 03-21001 Filed 8-15-03; 8:45 am]

BILLING CODE 6712-01-M